DEPARTMENT OF HOUSING AND URBAN DEVELOPMENT

[Docket No. FR-7029-N-02]

60-Day Notice of Proposed Information Collection: Strategies for Removing the Regulatory Impediments to the Financing and Siting of Factory-Built Housing in American Communities

AGENCY: Office of the Assistant Secretary for Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 14, 2020.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Strategies for Removing the Regulatory Impediments to the Financing and Siting of Factory-Built Housing in American Communities.

OMB Approval Number: N/A.

Type of Request (i.e., new, revision or extension of currently approved collection): New collection.

Form Number: N/A.

Description of the need for the information and proposed use: To assess the cost-effectiveness of factory-built housing as a potential affordable housing option in urban and suburban communities, HUD seeks to better understand the regulatory barriers preventing or limiting the use of factory-built housing. This study is framed by the general research question: What are the main drivers or barriers to the financing, siting and development of factory-built housing systems in various communities? A significant portion of the work of this study will involve identifying the types of barriers, their potential impact (or stringency), and their use in various communities. This process will involve research on several different communities in order to develop a typology of different barriers, catalog the community contexts where different barriers are more prevalent, and develop opportunity cost estimates of different barriers in different contexts. Information will be collected online and by telephone from local land use planning officials and manufacturers and dealers of factory-built housing to help determine the extent to which regulatory barriers limit the development of factory-built housing systems as an affordable housing option.

Members of affected public: This study will involve collecting information from two primary groups (1) Local land use planning officials (2) Manufacturers and dealers of factory-built housing.

Estimated Number of Respondents: 125. The objective of this study is to conduct in-depth telephone interviews with local land use planning officials on regulatory barriers to factory-built housing from a sample of 30 communities, for a total of 30 completed interviews. The study team anticipates contacting multiple individuals in the land use planning department from each sampled community to ascertain the targeted respondent. Therefore, the total estimated number of community respondents is estimated at 120 (i.e., 4 persons per community). In-depth interviews will also be conducted with 5 manufacturers or dealers of factory-built housing.

Estimated Time per Response: 0.36 hours. The estimated time per response will vary depending on the respondent category (e.g., informant vs. respondent) and may range from 5 to 45 minutes. In-depth interviews will not exceed 45 minutes. Across all study respondents, the average estimated time per response is 0.36 hours.

Frequency of Response: Once.

Estimated Total Annual Burden Hours: 45 hours.

Estimated Total Annual Cost: The only cost to respondents is that of their time estimated to be $1,740.

Respondent's Obligation: Voluntary.

Legal Authority: The survey is conducted under Title 12, United States Code, Section 1701Z and Section 3507 of the Paperwork Reduction Act of 1995, 44, U.S.C., 35, as amended.

Information collection | Number of respondents | Frequency of response | Responses per annum | Burden hour per response | Annual burden hours | Hourly cost per response | Cost
Outreach Efforts | 90 | 1 | 90 | 0.21 | 19 | $36.65 | $696
In-Depth Interviews | 30 | 1 | 30 | 0.75 | 22 | 36.65 | 806
In-Depth Interviews (Manufacturers/Dealers) | 5 | 1 | 5 | 0.75 | 4 | 59.56 | 238
Total | 125 | 1 | 125 | 0.36 | 45 | 38.67 | 1,740

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: February 3, 2020.
Seth D. Appleton,
Assistant Secretary for Policy Development and Research.

[FR Doc. 2020-03063 Filed 2-13-20; 8:45 am]

BILLING CODE 4210-67-P